DEPARTMENT OF COMMERCE

National Oceanic and Atmospheric Administration

RIN 0648-X061

New England Fishery Management Council; Public Meeting; Correction

AGENCY: National Marine Fisheries Service (NMFS), National Oceanic and Atmospheric Administration (NOAA), Commerce.

ACTION: Notice; public meeting; correction.

SUMMARY: The New England Fishery Management Council (Council) is scheduling a public meeting of its Scientific and Statistical Committee on April 30-May 1, 2009 to consider actions affecting New England fisheries in the exclusive economic zone (EEZ). Recommendations from this group will be brought to the full Council for formal consideration and action, if appropriate. This document corrects the meeting time for the scheduled April 30, 2009 meeting and both meeting agendas.

DATES: This meeting will be held on Thursday, April 30, 2009 at 9 a.m. and Friday, May 1, 2009 at 9 a.m.

ADDRESSES: Meeting address: The meeting will be held at the Sheraton Ferncroft Hotel, 55 Ferncroft Road, Danvers, MA 01923; telephone: (978) 777-2500; fax: (978) 750-7959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Need for Correction

The original document published at 74 FR 16364, April 10, 2009. The time change for the April 30, 2009 meeting has been corrected in the Dates section in this document. The agendas are corrected as follows:

Thursday, April 30, 2009

The SSC will review methods proposed by the Groundfish Plan Development Team for determining acceptable biological catch, annual catch limits and accountability measures for the 19 stocks in the Northeast Multispecies complex and possibly discuss proposed rebuilding strategies for overfished groundfish stocks.

Friday, May 1, 2009

The Scientific and Statistical Committee (SSC) will review the Monkfish Plan Development Team's analyses for determining monkfish acceptable biological catch, annual catch limits and accountability measures and proposed methods for the development of Atlantic herring acceptable biological catch, annual catch limits and accountability measures.

No additional changes have been made to the original and the text will not be repeated here.

Authority: 16 U.S.C. 1801 et seq.

Dated: April 14, 2009
Tracey L. Thompson,
Acting Director, Office of Sustainable Fisheries, National Marine Fisheries Service.

[FR Doc. E9-8893 Filed 4-17-09; 8:45 am]

BILLING CODE 3510-22-S